DEPARTMENT OF HOMELAND SECURITY

Federal Emergency Management Agency

[Docket ID FEMA-2013-0002; Internal Agency Docket No. FEMA-B-1313]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
New Mexico:
San Juan | City of Bloomfield (12-06-0882P) | Mr. David Fuqua, Manager, City of Bloomfield, 915 North 1st Street, Aztec, NM 87413 | 915 North 1st Street, Bloomfield, NM 87413 | http://www.rampp-team.com/lomrs.htm | June 10, 2013 | 350066
San Juan | Unincorporated areas of San Juan County (12-06-0882P) | Mr. Kim Carpenter, County Executive Officer, San Juan County, 100 South Oliver Drive, Aztec, NM 87410 | San Juan County Floodplain Management Office, 209 South Oliver Drive, Aztec, NM 87410 | http://www.rampp-team.com/lomrs.htm | June 10, 2013 | 350064
New York:
Nassau | Town of Hempstead (12-02-1677P) | The Honorable Kate P. Murray, Supervisor, Town of Hempstead, 1 Washington Street, Hempstead, NY 11550 | Town Hall, 1 Washington Street, Hempstead, NY 11550 | http://www.rampp-team.com/lomrs.htm | July 16, 2013 | 360467
Nassau | Village of Cedarhurst (12-02-1677P) | The Honorable Andrew J. Parise, Mayor, Village of Cedarhurst, 200 Cedarhurst Avenue, Cedarhurst, NY 11516 | Village Hall, 200 Cedarhurst Avenue, Cedarhurst, NY 11516 | http://www.rampp-team.com/lomrs.htm | July 16, 2013 | 360460
Nassau | Village of Lynbrook (12-02-1677P) | The Honorable William J. Hendrick, Mayor, Village of Lynbrook, P.O. Box 7021, Lynbrook, NY 11563 | Village Hall, 1 Columbus Drive, Lynbrook, NY 11563 | http://www.rampp-team.com/lomrs.htm | July 16, 2013 | 360478
Nassau | Village of Valley Stream (12-02-1677P) | The Honorable Edwin A. Fare, Mayor, Village of Valley Stream, 123 South Central Avenue, Valley Stream, NY 11580 | Village Hall, 123 South Central Avenue, Valley Stream, NY 11580 | http://www.rampp-team.com/lomrs.htm | July 16, 2013 | 360495
Orange | Town of Newburgh (12-02-0928P) | The Honorable Wayne Booth, Supervisor, Town of Newburgh, 1496 Route 300, Newburgh, NY 12550 | Code Compliance Department, 308 Gardnertown Road, Newburgh, NY 12550 | http://www.rampp-team.com/lomrs.htm | July 16, 2013 | 360627
Oklahoma:
Comanche | City of Lawton (11-06-3317P) | The Honorable Fred L. Fitch, Mayor, City of Lawton, 212 Southwest 9th Street, Lawton, OK 73501 | City Hall, 212 Southwest 9th Street, Lawton, OK 73501 | http://www.rampp-team.com/lomrs.htm | May 30, 2013 | 400049
Texas:
Bexar, Comal and Kendall | City of Fair Oaks Ranch (11-06-4481P) | The Honorable Cheryl Landman, Mayor, City of Fair Oaks Ranch, 7286 Dietz Elkhorn Road, Fair Oaks Ranch, TX 78015 | City Hall, 7286 Dietz Elkhorn Road, Fair Oaks Ranch, TX 78015 | http://www.rampp-team.com/lomrs.htm | May 28, 2013 | 481644
Collin | City of Allen (12-06-2183P) | The Honorable Stephen Terrell, Mayor, City of Allen, 305 Century Parkway, 1st Floor, Allen, TX 75013 | City Hall, 305 Century Parkway, Allen, TX 75013 | http://www.rampp-team.com/lomrs.htm | May 31, 2013 | 480131
Collin | City of Parker (12-06-2183P) | The Honorable Z. Marshall, Mayor, City of Parker, 5700 East Parker Road, Parker, TX 75002 | City Hall, 5700 East Parker Road, Parker, TX 75002 | http://www.rampp-team.com/lomrs.htm | May 31, 2013 | 480139
Collin | City of Plano (12-06-2183P) | The Honorable Phil Dyer, Mayor, City of Plano, 1520 Avenue K, Plano, TX 75074 | City Hall, 1520 Avenue K, Plano, TX 75074 | http://www.rampp-team.com/lomrs.htm | May 31, 2013 | 480140
Fort Bend | City of Sugar Land (12-06-3366P) | The Honorable James A. Thompson, Mayor, City of Sugar Land, P.O. Box 110, Sugar Land, TX 77487 | Engineering Department, 2700 Town Center Boulevard, Sugar Land, TX 77479 | http://www.rampp-team.com/lomrs.htm | June 6, 2013 | 480234
Fort Bend | Unincorporated areas of Fort Bend County (12-06-3366P) | The Honorable Robert Hebert, Fort Bend County Judge, 301 Jackson Street, Suite 719, Richmond, TX 77469 | Fort Bend County Engineering Department, 1124 Blume Road, Rosenburg, TX 77471 | http://www.rampp-team.com/lomrs.htm | June 6, 2013 | 480228
Hays | City of San Marcos (12-06-2514P) | The Honorable Daniel Guerrero, Mayor, City of San Marcos, 630 East Hopkins Street, San Marcos, TX 78666 | Engineering Department, 630 East Hopkins Street, San Marcos, TX 78666 | http://www.rampp-team.com/lomrs.htm | May 28, 2013 | 485505
Hays | Unincorporated areas of Hays County (12-06-2514P) | The Honorable Bert Cobb, M.D., Hays County Judge, 111 East San Antonio Street, Suite 300, San Marcos, TX 78666 | Hays County Development Services Department, 2171 Yarrington Road, San Marcos, TX 78667 | http://www.rampp-team.com/lomrs.htm | May 28, 2013 | 480321
Montgomery | Unincorporated areas of Montgomery County (12-06-1995P) | The Honorable Alan B. Sadler, Montgomery County Judge, 501 North Thompson Street, Suite 401, Conroe, TX 77301 | Montgomery County Permit Office, 301 North Thompson Street, Suite 208, Conroe, TX 77301 | http://www.rampp-team.com/lomrs.htm | June 6, 2013 | 480483

(Catalog of Federal Domestic Assistance No. 97.022, “Flood Insurance.”)

Roy E. Wright,
Deputy Associate Administrator for Mitigation, Department of Homeland Security, Federal Emergency Management Agency.

[FR Doc. 2013-07807 Filed 4-3-13; 8:45 am]

BILLING CODE 9110-12-P